DEPARTMENT OF JUSTICE

Notice of Lodging of Consent Decree Pursuant to Oil Pollution Act

Notice is hereby given that on November 15, 2010, a proposed consent decree in United States, et al. v. Bouchard Transportation Company, Inc., et al., Civil Action No. 1:10-cv-11958-NMG, was lodged with the United States District Court for the District of Massachusetts.

The proposed consent decree will settle a portion of the claims of the United States (on behalf of the Department of Commerce/National Oceanic and Atmospheric Administration and the Department of the Interior/Fish and Wildlife Service), the Commonwealth of Massachusetts, and the State of Rhode Island for natural resource damages under the Oil Pollution Act, 33 U.S.C. 2701, et seq., (“Trustees”) against Bouchard Transportation Company, Inc., and related companies (“Defendants”) relating to an oil spill from the tank barge Bouchard No. 120, which occurred in April 2003 in Buzzards Bay. Pursuant to the proposed consent decree, the Defendants will pay $6,076,393 as natural resource damages to the Trustees. In addition, the Defendants acknowledge the payment of $1,573,529 to the Trustees for reimbursement of their assessment costs.

The Department of Justice will receive for a period of thirty (30) days from the date of this publication comments relating to the proposed consent decree. Comments should be addressed to the Assistant Attorney General of the Environment and Natural Resources Division, Department of Justice, Washington, DC 20530, and should refer to United States, et al., v. Bouchard Transportation Company, Inc., et al., Civil Action No. 1:10-cv-11958-NMG, D.J. Ref. 90-5-1-1-08159.

Comments should be addressed to the Assistant Attorney General, Environment and Natural Resources Division, and either emailed to pubcomment-ees.enrd@usdoj.gov or mailed to P.O. Box 7611, U.S. Department of Justice, Washington, DC 20044-7611, and should refer to United States, et al. v. Bouchard Transportation Company, Inc., D.J. Ref. 90-11-3-08159.

During the public comment period, the Consent Decree, may also be examined on the following Department of Justice website, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $13.50 (25 cents per page reproduction costs of Consent Decree and Appendices) payable to the U.S. Treasury or, if by email or fax, forward a check in that amount to the Consent Decree Library at the stated address.

Maureen Katz,
Assistant Chief, Environmental Enforcement Section, Environment and Natural Resources Division.

[FR Doc. 2010-29158 Filed 11-18-10; 8:45 am]

BILLING CODE 4410-15-P